DEPARTMENT OF THE INTERIOR

Minerals Management Service

Notice and Agenda for Rescheduled Meeting of the Royalty Policy Committee of the Minerals Management Advisory Board

AGENCY: Minerals Management Service (MMS), Interior.

ACTION: Notice of rescheduled meeting.

SUMMARY: The Secretary of the Interior established a Royalty Policy Committee on the Minerals Management Advisory Board to provide advice on the Department's management of Federal and Indian minerals leases, revenues, and other minerals-related policies. Committee membership includes representatives from States, Indian tribes, allottee organizations, minerals industry associations, the general public, and Federal departments. At this rescheduled 13th meeting, the committee will again consider minority and majority reports on sodium/potassium draft valuation regulations. The Coal and Accounting Relief for Marginal Properties Subcommittees will also present reports. A discussion will be held on the appeals process. The MMS will present reports on coal waste piles, program reengineering, royalty-in-kind (RIK) operations, and the Wyoming and Texas section 8g RIK pilot evaluations. Panels comprised of MMS and guest presenters will discuss topical energy issues, such as proposed energy bills and the Administration's National Energy Policy, and the status of MMS's new financial management system.

DATES: The meeting, rescheduled from September 18, 2001, will be held on Thursday, October 18, 2001, 8:30 a.m. to 5:30 p.m. Mountain Standard time.

ADDRESSES: The meeting will be held at the Sheraton Denver West Hotel, 360 Union Boulevard, Lakewood, Colorado, telephone number (303) 987-2000 or (720) 963-2018.

FOR FURTHER INFORMATION CONTACT: Mr. Gary Fields, Royalty Policy Committee Coordinator, Minerals Revenue Management, Minerals Management Service, P.O. Box 25165, MS 300B3, Denver, CO 80225-0165, telephone number (303) 231-3102, fax number (303) 231-3780, e-mail gary.fields@mms.gov.

SUPPLEMENTARY INFORMATION: The location and dates of future meetings will be published in the Federal Register and posted on the Internet at www.mrm.mms.gov/Laws_R_D/RoyPC/RoyPC.htm. The meetings will be open to the public without advance registration. Public attendance may be limited to the space available. Members of the public may make statements during the meetings, to the extent time permits, and file written statements with the committee for its consideration. Written statements should be submitted to Mr. Fields, at the email or mailing address listed in the FOR FURTHER INFORMATION CONTACT section. Transcripts of committee meetings will be available 2 weeks after each meeting for public inspection and copying at MMS, Building No. 85, Denver Federal Center, Denver, Colorado. Meeting minutes will be posted on the Internet at www.mrm.mms.gov/Laws_R_D/RoyPC/RoyPC.htm approximately 1 month after the meeting. These meetings are being held under the authority of the Federal Advisory Committee Act, Public Law 92-463, 5 U.S.C. Appendix 1, and Office of Management and Budget Circular No. A-63, revised.

Dated: September 17, 2001.
Lucy Querques Denett,
Associate Director for Minerals Revenue Management.

[FR Doc. 01-23592 Filed 9-18-01; 1:16 pm]

BILLING CODE 4310-MR-P